DEPARTMENT OF ENERGY

Federal Energy Regulatory Commission

[Docket No. RP17-811-000]

Peregrine Oil & Gas II, LLC v. Texas Eastern Transmission, LP; Notice of Complaint

Take notice that on June 1, 2017, pursuant to sections 5 and 16 of the Natural Gas Act (NGA), 15 U.S.C. 717d and 717o, and Rule 206 of the Rules of Practice and Procedure of the Federal Energy Regulatory Commission (FERC or Commission), 18 CFR 385.206 (2016), Peregrine Oil & Gas II, LLC (Complainant) filed a formal complaint against Texas Eastern Transmission, LP (Respondent) alleging that, Respondent violated its service obligations under its tariff and section 4 of the NGA by failing to exercise due diligence to remedy recent outages on its FERC-certificated Line 41-A System, all as more fully explained in the complaint.

Complainant certifies that a copy of the complaint has been served on the Respondent and certain producers of natural gas in the affected area who may be expected to be affected by the complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 21, 2017.

Dated: June 1, 2017.
Kimberly D. Bose,
Secretary.

[FR Doc. 2017-11767 Filed 6-6-17; 8:45 am]

BILLING CODE 6717-01-P